DEPARTMENT OF HEALTH AND HUMAN SERVICES

National Institutes of Health

Center for Scientific Review; Amended Notice of Meeting

Notice is hereby given of a change in the meeting of the Molecular Neurogenetics Study Section, June 05, 2025, 9:00 a.m. to June 06, 2025, 7:00 p.m., National Institutes of Health, Rockledge II, 6701 Rockledge Drive, Bethesda, MD 20892 which was published in the Federal Register on April 9, 2025, 90 FR 15254, Doc No. 2025-06087.

This meeting is being amended to change the contact person from Mary Schueler to Prithi Rajan, Scientific Review Officer, National Institute of Neurological Disorders and Stroke, National Institutes of Health, Bethesda, MD 20892, prithi.rajan@nih.gov. The meeting is closed to the public.

Dated: May 15, 2025.
Bruce A. George,
Program Analyst, Office of Federal Advisory Committee Policy.

[FR Doc. 2025-09076 Filed 5-20-25; 8:45 am]

BILLING CODE 4140-01-P